BUREAU OF CONSUMER FINANCIAL PROTECTION

[Docket No. CFPB-2011-0033]

Proposed Collection; Comment Request

AGENCY: Bureau of Consumer Financial Protection.

ACTION: Notice and request for comment.

SUMMARY: The Bureau of Consumer Financial Protection (CFPB), as part of its continuing effort to reduce paperwork and respondent burden, invites the general public and other Federal agencies to comment on a proposed information collection, as required by the Paperwork Reduction Act of 1995 (PRA), Public Law 104-13 (44 U.S.C. 3506(c)(2)(A)). The CFPB is soliciting comments for a proposed generic information collection that will help the CFPB satisfy responsibilities under the Dodd-Frank Wall Street Reform and Consumer Protection Act, Public Law No. 111-203 (Dodd-Frank Act) found in Sections 1013(b)(3) and 1034 of the Dodd-Frank Act. Currently, the CFPB is soliciting comments on a proposed generic information collection to help facilitate the collection and monitoring of and response to consumer complaints about certain financial products and services.

DATES: Written comments are encouraged and must be received on or before December 30, 2011 to be assured of consideration.

ADDRESSES: You may submit comments, identified by Docket No. CFPB-2011-0033, by any of the following methods:

• http://www.regulations.gov. Follow the instructions for submitting comments.

• infocollection.comments@cfpb.gov

• Mail: Cathleen Skinner, Consumer Response, Consumer Financial Protection Bureau, 1500 Pennsylvania Ave. NW., (Attn: 1801 L Street), Washington, DC 20220.

• Hand Delivery/Courier in Lieu of Mail: Monica Jackson, Office of the Executive Secretary, Consumer Financial Protection Bureau, 1700 G Street, NW., Washington, DC 20006.

Instructions: All submissions must include the document title and docket number. In general, all comments received will be posted without change to http://www.regulations.gov. In addition, comments will be available for public inspection and copying at 1700 G Street, NW., Washington, DC 20006, on official business days between the hours of 10 a.m. and 5 p.m. Eastern Time. You can make an appointment to inspect the documents by telephoning (202) 435-7275. All comments, including attachments and other supporting materials, will become part of the public record and subject to public disclosure. Sensitive personal information such as account numbers or Social Security numbers should not be included. Comments will not be edited to remove any identifying or contact information.

FOR FURTHER INFORMATION CONTACT: Requests for additional information should be directed to Cathaleen Skinner, Consumer Financial Protection Bureau, (202) 435-7469, cathaleen.skinner@cfpb.gov.

SUPPLEMENTARY INFORMATION: Title: Generic Clearance for Consumer Complaint and Information Collection Systems.

OMB Control Number: 3710-XXX.

Abstract: Over the next three years, the CFPB anticipates undertaking a variety of service delivery-focused activities under the Dodd-Frank Act. These activities, which include consumer complaint and inquiry processing, information-sharing with stakeholders, and complaint monitoring, require interrelated processes, or systems, that are responsive to stakeholders' needs, sensitive to changes in the consumer market, and subject to iterative testing. Since these systems will use similar methods for information collection or otherwise share common elements, the CFPB is proposing a generic clearance for intake forms, response forms and feedback collections. The streamlined process of the generic clearance will allow the CFPB to implement these systems and meet the obligations of the PRA without the delays of the normal clearance process. The CFPB's Consumer Complaint and Information Collection Systems' generic information collection burden estimates will consist of the burden attributable to: (1) Consumer complaint and inquiry intake, (2) stakeholder feedback collection, (3) consumer complaint and inquiry tracking, and (4) consumer complaint referral programming. An approved set of collection questions and fields associated with the pilot intake form (OMB Control No. 1505-0236) and a proposed set associated with the standard Consumer Response Intake Form (76 FR 38,458 (June 30, 2011)) will serve as the initial models for the collections proposed under a generic information collection request. The CFPB will only undertake a new collection under this generic clearance if the OMB does not object to the CFPB's proposal.

Type of Review: Generic Clearance Request.

Affected Public: Individuals and Households, Businesses and Organizations, State, Local or Tribal governments.

Respondent's Obligation: Voluntary.

Estimated Number of Respondents: A preliminary estimate of aggregate burden for this generic clearance follows. As the statutory mandate behind the CFPB's consumer complaint and information collection activities is largely unprecedented, the projections of the number of respondents have a high level of uncertainty.

Proposed individual collections | Estimated number of respondents | Average burden per response (minutes) | Estimated total annual burden hours requested
Web Complaint and Inquiry Intake | 2,500,000 | 7 | 291,600
Paper/Telephone Complaint and Inquiry Intake | 750,000 | 10 | 125,000
Stakeholder Feedback System | 10,000 | 5 | 830
Complaint Tracking and Referral System | 10,000 | 5 | 830
Total | 3,270,000 | 8 | 418,300

Estimated Average Time per Respondent: 8 minutes per response.

Estimated Total Annual Burden Hours: Approximately 418,300 burden hours.

Request for Comments: Comments submitted in response to this notice will be summarized and/or included in the request for Office of Management and Budget approval. All comments will become a matter of public record. Comments are invited on: (a) Whether the proposed collection of information is necessary for the proper performance of the functions of the CFPB, including whether the information will have practical utility; (b) the accuracy of the above estimate of the burden of the proposed information collection; (c) ways to enhance the quality, utility, and clarity of the information to be collected; and (d) ways to minimize the burden of the collection of information on respondents, including the use of automated collection techniques or other forms of information technology, such as, permitting electronic submissions of responses.

Robert Dahl,
PRA Clearance Officer, Department of the Treasury.

[FR Doc. 2011-28074 Filed 10-28-11; 8:45 am]

BILLING CODE 4810-AM-P